DEPARTMENT OF ENERGY

Federal Energy Regulatory Commission

[Docket No. CP09-84-000]

ANR Pipeline Company; Notice of Request Under Blanket Authorization

March 26, 2009.

Take notice that on March 24, 2009, ANR Pipeline Company (ANR), having its principal office at 717 Texas Street, Houston, Texas 77002, filed a prior notice request pursuant to sections 157.205 and 157.208 of the Federal Energy Regulatory Commission's regulations under the Natural Gas Act for authorization to construct, own and operate an interconnection with Rockies Express Pipeline, LLC (REX) and related facilities in Shelby County, Indiana, under ANR's blanket certificate issued in Docket No. CP82-480-000. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Specifically, ANR requests authorization to construct and own the “ANR-REX East-Shelby Interconnection Project” facilities to receive up to 560 MMcf/d from REX in Shelby County, Indiana, in connection with the REX-East Project certificated by the Commission in Docket No. CP07-208-000 on May 20, 2008. To establish the project, ANR will install a meter station and approximately 324 feet of 20-inch diameter interconnecting pipe between the proposed meter station and its 30-inch pipelines designated as lines Nos. 501 and 1-501 at the approximate Mile Post 735.78. ANR will install and own two 20-inch hot taps, one each on Lines 501 and 1-501, along with other appurtenant facilities.

Any questions regarding the application should be directed to M. Catharine Davis, Associate General Counsel, ANR Pipeline Company, 717 Texas Street, Houston, TX 77002, phone: (832) 320-5509, fax: (832) 320-6509, e-mail: catharine_davis@transcanada.com, or Robert D. Jackson, Director, Rates and Regulatory Affairs, ANR Pipeline Company, 717 Houston Street, Houston, TX 77002, phone: (832) 320-5487, fax: (832) 320-6487, e-mail: robert_jackson@transcanada.com.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link.

Kimberly D. Bose,
Secretary.

[FR Doc. E9-7344 Filed 4-1-09; 8:45 am]

BILLING CODE